DEPARTMENT OF TRANSPORTATION

Federal Aviation Administration

14 CFR Part 39

[Docket No. FAA-2005-23145; Directorate Identifier 2000-NM-215-AD; Amendment 39-14777; AD 2006-20-08]

RIN 2120-AA64

Airworthiness Directives; Empresa Brasileira de Aeronautica S.A. (EMBRAER) Model EMB-145, -145ER, -145MR, -145LR, -145XR, -145MP, and -145EP Airplanes

AGENCY: Federal Aviation Administration (FAA), Department of Transportation (DOT).

ACTION: Final rule.

SUMMARY: The FAA is superseding an existing airworthiness directive (AD), which applies to all EMBRAER Model EMB-145, -145ER, -145MR, -145LR, -145XR, -145MP, and -145EP airplanes. That AD currently requires repetitive inspections to detect cracking or failure of the rod ends of the aileron power control actuator (PCA), and corrective actions if necessary. This new AD requires the same repetitive inspections of additional parts at new inspection intervals for certain airplanes; provides new corrective actions; and provides an optional terminating action for the requirements of this AD. This AD results from the issuance of mandatory continuing airworthiness information by the Brazilian airworthiness authority. We are issuing this AD to detect and correct cracking or breaking of the rod ends and connecting fittings of the aileron PCA, which could result in reduced controllability of the airplane.

DATES: This AD becomes effective November 8, 2006.

The Director of the Federal Register approved the incorporation by reference of certain publications listed in the AD as of November 8, 2006.

The Director of the Federal Register approved the incorporation by reference of EMBRAER Alert Service Bulletin 145-27-A054, Change 01, dated February 17, 1999, on March 29, 1999 (64 FR 13892, March 23, 1999).

ADDRESSES: You may examine the AD docket on the Internet at http://dms.dot.gov or in person at the Docket Management Facility, U.S. Department of Transportation, 400 Seventh Street, SW., Nassif Building, Room PL-401, Washington, DC.

Contact Empresa Brasileira de Aeronautica S.A. (EMBRAER), P.O. Box 343—CEP 12.225, Sao Jose dos Campos—SP, Brazil, for service information identified in this AD.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 99-05-04, amendment 39-11087 (64 FR 13892, March 23, 1999). The existing AD applies to all EMBRAER Model EMB-145, -145ER, -145MR, -145LR, -145XR, -145MP, and -145EP airplanes. That NPRM was published in the Federal Register on December 7, 2005 (70 FR 72726). That NPRM proposed to continue to require repetitive inspections to detect cracking or failure of the rod ends of the aileron power control actuator (PCA), and corrective actions if necessary. That NPRM also proposed to require the same repetitive inspections of additional parts at new inspection intervals for certain airplanes to detect cracking or failure of the rod ends of the aileron power control actuator (PCA); provide new corrective actions; and provide an optional terminating action for the proposed requirements.

Comments

We provided the public the opportunity to participate in the development of this AD. We have considered the comments that have been received on the NPRM.

Request To Add Airplane Models to the Applicability

ExpressJet requests that we include EMBRAER Model EMB-135 airplanes in the applicability of the NPRM. ExpressJet states that its Model EMB-135ER and -135LR airplanes that are currently subject to an 800-flight hour inspection interval, if subject to the AD, would be subject to a 1,000-flight hour inspection interval. ExpressJet asserts that these airplanes should be subject to the AD because they have the same subject parts.

We do not agree. EMBRAER Model EMB-135 airplanes should not be subject to this AD because they already have the required structural modifications and reinforced aileron PCA-factory incorporated since the first production Model EMB-135 airplane. Regarding the difference in inspection intervals, we have confirmed with EMBRAER that there is no technical reason for the different inspection interval for Model EMB-135 airplanes from that of the airplanes subject to this AD. The different inspection intervals for these airplanes are a result of different maintenance program updating processes (Maintenance Review Board Report updating process versus a design change approval process) used for the different airplane models. EMBRAER has notified us that it is currently in the process of issuing a temporary revision to the EMBRAER EMB-135 Certification Maintenance Requirements that will change the inspection interval for those airplanes from 800 flight hours to 1000 flight hours-the same inspection interval specified in this AD for the subject airplanes. No change to the AD is necessary in this regard.

Request To Reference Parts Manufacturer Approval (PMA) Parts

Modification and Replacement Parts Association (MARPA) requests that the language in the NPRM be changed to identify the new, reinforced parts by part number (P/N). MARPA states that the “new and improved” parts are not identified by P/N in the NPRM and asserts that, if they are identified by P/N in the service bulletin, the mandated installation of a certain P/N in the NPRM “could constitute a conflict with 14 CFR Section 21.303.” MARPA also requests that a qualifying statement, “or other FAA-approved part,” be appended. MARPA states that this qualification would remove the possible “conflict” by explicitly stating that other qualified PMA parts are permitted.

We infer that MARPA would like the AD to permit installation of any equivalent PMA parts so that it is not necessary for an operator to request approval of an alternative method of compliance (AMOC) in order to install an “equivalent” PMA part. Whether an alternative part is “equivalent” in adequately resolving the unsafe condition can only be determined on a case-by-case basis based on a complete understanding of the unsafe condition. Our policy is that, in order for operators to replace a part with one that is not specified in the AD, they must request an AMOC. This is necessary so that we can make a specific determination that an alternative part is or is not susceptible to the same unsafe condition. Therefore, we do not agree with MARPA's requests and have made no change to the AD in this regard.

The AD provides a means of compliance for operators to ensure that the identified unsafe condition is addressed appropriately. For an unsafe condition attributable to a part, the AD normally identifies the replacement parts necessary to obtain that compliance. As stated in section 39.7 of the Federal Aviation Regulations (14 CFR 39.7), “Anyone who operates a product that does not meet the requirements of an applicable airworthiness directive is in violation of this section.” Unless an operator obtains approval for an AMOC, replacing a part with one not specified by the AD would make the operator subject to an enforcement action and result in a civil penalty. We acknowledge that there may be other ways of addressing this issue. Once we have thoroughly examined all aspects of this issue, including input from industry, and have made a final determination, we will consider whether our policy regarding PMA parts in ADs needs to be revised. However, we consider that to delay this AD action would be inappropriate, since we have determined that an unsafe condition exists and that replacement of certain parts must be accomplished to ensure continued safety. Therefore, no change to the AD is necessary in this regard.

In response to MARPA's statement regarding a “conflict with FAR 21.303,” under which the FAA issues PMAs, this statement appears to reflect a misunderstanding of the relationship between ADs and the certification procedural regulations of part 21 of the Federal Aviation Regulations (14 CFR part 21). Those regulations, including section 21.303 of the Federal Aviation Regulations (14 CFR 21.203), are intended to ensure that aeronautical products comply with the applicable airworthiness standards. But ADs are issued when, notwithstanding those procedures, we become aware of unsafe conditions in these products or parts. Therefore, an AD takes precedence over design approvals when we identify an unsafe condition, and mandating installation of a certain P/N in an AD is not at variance with section § 21.303.

Request To Address Defective PMA Parts

MARPA notes that the P/Ns cited in the NPRM reflect both original equipment manufacturer (OEM) and PMA parts “approved by identicality under license to Parker Hannifin Company.” The commenter believes that the requirements of the AD should apply equally to the OEM and PMA parts.

We do not agree that it is necessary to specify whether an identified part is made by the OEM or by the holder of a PMA. The P/Ns of the affected parts are the information that is necessary to comply with the requirements of this AD and those P/Ns are clearly identified in the AD. Therefore, no change has been made to the final rule in this regard.

Request To Use Serviceable Parts

ExpressJet also asks that we revise the NPRM to allow use of serviceable parts in lieu of new parts for replacement/installation of an aileron PCA. ExpressJet states that it completed the requirements of this AD some time ago and that they used parts that were serviceable, but may not have been new.

We agree. It is our policy to allow operators to use serviceable parts in lieu of new parts if a serviceable part exists and that part is not subject to the unsafe condition addressed by the AD and will adequately ensure long-term continued operational safety by its use. Therefore, we have changed this final rule to allow use of serviceable parts for the replacement/installation of an aileron PCA.

Request To Add Service Information

ExpressJet asks that we add the service information identified in the table below as acceptable methods of compliance for the requirements of the paragraphs also specified in the table below. ExpressJet notes that the technical content of these service bulletins is the same as in the later revisions already cited in the NPRM as the appropriate sources of service information for the requirements of those paragraphs.

Service Information Requested for Inclusion in AD
Add this service bulletin as an acceptable method of compliance— | For the requirements of paragraph(s)— | Approved as an AMOC to—
EMBRAER Service Bulletin 145-27-0062, Change 02, dated September 12, 2000 | Paragraph (j) | None.
EMBRAER Service Bulletin 145-57-0019, Change 01, dated March 30, 2000 | Paragraphs (k), (l), and (n)(2) | AD 99-05-04.
EMBRAER Service Bulletin 145-27-0061, dated October 19, 1999 | Paragraphs (k) and (n)(2) | None.
EMBRAER Service Bulletin 145-27-0061, Change 01, dated October 29, 1999 | Paragraphs (k) and (n)(2) | AD 99-05-04.

We agree with ExpressJet's request. We have reviewed these service bulletins and have determined that the technical content of each is essentially the same as those already referenced in the NPRM for the applicable actions. Therefore, we have added these service bulletins to the applicable paragraphs as acceptable methods of compliance for the applicable requirements of this final rule.

Conclusion

We have carefully reviewed the available data, including the comments that have been received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Inspections (required by AD 99-05-04) | 1 | $65 | None | $65, per inspection cycle | 661 | $42,965, per inspection cycle.
Inspections (new action for airplanes subject to EMBRAER Service Bulletin 145-27-0054) | 1 | 65 | None | $65, per inspection cycle | 661 | $42,965, per inspection cycle.
Replacing the PCA connecting fittings (new action) | 24 | 65 | $19,817 | $21,377 | 661 | $14,130,197.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11087 (64 FR 13892, March 23, 1999) and by adding the following new airworthiness directive (AD):

2006-20-08 Empresa Brasileira de Aeronautica S.A. (EMBRAER): Amendment 39-14777. Docket No. FAA-2005-23145; Directorate Identifier 2000-NM-215-AD.

Effective Date

(a) This AD becomes effective November 8, 2006.

Affected ADs

(b) This AD supersedes AD 99-05-04.

Applicability

(c) This AD applies to all EMBRAER Model EMB-145, -145ER, -145MR, -145LR, -145XR, -145MP, and -145EP airplanes, certificated in any category.

Unsafe Condition

(d) This AD results from the issuance of mandatory continuing airworthiness information by the Brazilian airworthiness authority. We are issuing this AD to detect and correct cracking or breaking of the rod ends and connecting fittings of the aileron power control actuator (PCA), which could result in reduced controllability of the airplane.

Compliance

(e) You are responsible for having the actions required by this AD performed within the compliance times specified, unless the actions have already been done.

Restatement of Certain Requirements of AD 99-05-04

Initial and Repetitive Inspections

(f) Within 24 hours (1 day) after March 29, 1999 (the effective date of AD 99-05-04), perform a detailed inspection to detect cracking or failure of the rod ends of the PCA at the aileron and wing connection points, in accordance with EMBRAER Alert Service Bulletin 145-27-A054, Change 01, dated February 17, 1999; or EMBRAER Service Bulletin 145-27-0054, Change 03, dated March 30, 2000, or Change 04, dated February 14, 2005. Repeat the inspection in accordance with the service bulletin thereafter at intervals not to exceed 3 days or 25 flight hours, whichever occurs later, until the initial inspection required by paragraph (h) of this AD is done.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Actions

(g) If any cracked or failed rod end is detected during any inspection performed in accordance with paragraph (f) of this AD, prior to further flight, replace the aileron PCA with a new or serviceable part having the same part number, in accordance with EMBRAER Alert Service Bulletin 145-27-A054, Change 01, dated February 17, 1999; or EMBRAER Service Bulletin 145-27-0062, Revision 03, dated December 11, 2002, or Revision 04, dated March 8, 2004. After the effective date of this AD, replace the aileron PCA only with a new or serviceable part that is listed in the “New P/N” column in section 2. “Material—Cost and Availability” of EMBRAER Service Bulletin 145-27-0062, Revision 03, dated December 11, 2002, or Revision 04, dated March 8, 2004. Do the replacement in accordance with the Accomplishment Instructions of the service bulletin. Where the service bulletin specifies to send parts to the parts manufacturer, that action is not required by this AD.

New Requirements of This AD

Repetitive Inspections

(h) At the applicable “Initial Inspection” compliance time in Table 1 of this AD: Do a general visual inspection to detect cracking or failure of the rod ends and connecting fittings in the left- and right-hand PCAs at the aileron and wing structure connection points, in accordance with Part I of the Accomplishment Instructions of EMBRAER Service Bulletin 145-27-0054, Change 03, dated March 30, 2000, or Change 04, dated February 14, 2005. Repeat the inspection at the applicable “Repeat” interval in Table 1 of this AD. Doing the initial inspection in accordance with paragraph (h) of this AD terminates the repetitive inspections in paragraph (f) of this AD.

Table 1.—Initial and Repetitive Inspection Intervals
For airplanes that have PCAs with part number (P/N)— | Do the initial inspection— | Repeat the inspection—
394900-1003 or 394900-1005 | Within 3 days after the effective date of this AD | At intervals not to exceed 25 flight hours or 3 days, whichever occurs later.
394900-1007 | Within 14 days after the effective date of this AD | At intervals not to exceed 100 flight hours or 14 days, whichever occurs later.
418800-1001, 418800-1003, 418800-9003, 418800-1005, 418800-9005, 418800-1007, or 418800-9007; and that have new reinforced PCA fittings installed in accordance with paragraph (k) or (l) of this AD | Within 500 flight hours after the effective date of this AD | At intervals not to exceed 500 flight hours.

Note 2: For the purposes of this AD, a general visual inspection is “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

No Cracked or Failed PCA Rod Ends or Connecting Fittings

(i) If no cracked or failed PCA rod end or connecting fitting is found during any inspection required by paragraph (h) of this AD: Repeat the inspection required by paragraph (h) of this AD at the applicable time specified in Table 1 of this AD.

Corrective Actions for Cracked or Failed Rod Ends

(j) If any cracked or failed rod end is found during any inspection required by paragraph (h) of this AD: Before further flight, replace the aileron PCA with a new or serviceable part as listed in the “New P/N” column in section 2. “Material—Cost and Availability” of EMBRAER Service Bulletin 145-27-0062, Change 02, dated September 12, 2000; Revision 03, dated December 11, 2002; or Revision 04, dated March 8, 2004. Do the replacement in accordance with the Accomplishment Instructions of the service bulletin. Where the service bulletin specifies to send parts to the parts manufacturer, that action is not required by this AD.

Corrective Actions for Cracked or Failed PCA Connecting Fittings

(k) If any cracked or failed PCA connecting fitting at the wing or aileron side is found during any inspection required by paragraph (h) of this AD: Before further flight, replace the PCA connecting fitting with a new, reinforced fitting, in accordance with Part I of the Accomplishment Instructions of EMBRAER Service Bulletin 145-57-0019, Change 01, dated March 30, 2000, Change 02, dated May 3, 2001, or Change 03, dated February 11, 2004; and EMBRAER Service Bulletin 145-27-0061, dated October 19, 1999, Change 01, dated October 29, 1999, Change 02, dated September 12, 2000, Change 03, dated March 14, 2001, or Revision 04, dated August 11, 2004.

PCA Connecting Fitting Replacement

(l) For airplanes with aileron PCAs with P/N 394900-1003, 394900-1005, 394900-1007, 418800-1001, 418800-1003, 418800-9003, 418800-1005, 418800-9005, 418800-1007, or 418800-9007: Except as required by paragraph (k) of this AD, at the applicable time in paragraphs (l)(1) and (l)(2) of this AD, replace the aileron PCA connecting fittings with new, reinforced fittings, in accordance with Part I of the Accomplishment Instructions of EMBRAER Service Bulletin 145-57-0019, Change 01, dated March 30, 2000, Change 02, dated May 3, 2001, or Change 03, dated February 11, 2004; and Part I of the Accomplishment Instructions of EMBRAER Service Bulletin 145-27-0061, Change 02, dated September 12, 2000, Change 03, dated March 14, 2001, or Revision 04, dated August 11, 2004.

(1) For airplanes with PCAs with P/N 394900-1003, 394900-1005, or 394900-1007: At the later of the times in paragraphs (l)(1)(i) and (l)(1)(ii) of this AD.

(i) Before the airplane accumulates 6,000 total flight hours.

(ii) Within 3 days or 25 flight hours after the effective date of this AD, whichever occurs later.

(2) For airplanes with PCAs with P/N 418800-1001, 418800-1003, 418800-9003, 418800-1005, 418800-9005, 418800-1007, or 418800-9007: Before the airplane accumulates 6,000 total flight hours, or within 600 flight hours after the effective date of this AD, whichever occurs later.

(m) For airplanes with PCAs with P/N 418800-1001, 418800-1003, 418800-9003, 418800-1005, 418800-9005, 418800-1007, or 418800-9007: At the applicable time specified in Table 1 of this AD following the replacement specified in paragraph (l) of this AD, do a general visual inspection of the replaced part using a method approved by either the Manager, International Branch, ANM-116, Transport Airplane Directorate, FAA; or the Departmento de Aviacao Civil (or its delegated agent). Doing the inspections in accordance with EMBRAER EMB-145 Aircraft Maintenance Manual Task 27-12-01-212-002-A00, “Inspect (Visual Inspection) Aileron PCA Rod Ends/Fitting Lugs for Integrity and General Condition,” is one approved method. Thereafter, repeat the inspection at the applicable time specified in Table 1 of this AD.

Optional Terminating Action

(n) Airplanes that meet all conditions in paragraphs (n)(1), (n)(2), (n)(3), and (n)(4) of this AD are not subject to the requirements of paragraphs (f), (h), (i), (j), (k), (l), and (m) of this AD.

(1) The airplane is equipped with new aileron PCAs with P/N 418800-1001, 418800-1003, 418800-9003, 418800-1005, 418800-9005, 418800-1007, or 418800-9007.

(2) The airplane is equipped with new, reinforced PCA fittings installed in production or in accordance with the Accomplishment Instructions of EMBRAER Service Bulletin 145-57-0019, Change 01, dated March 30, 2000, Change 02, dated May 3, 2001, or Change 03, dated February 11, 2004; and EMBRAER Service Bulletin 145-27-0061, dated October 19, 1999, Change 01, dated October 29, 1999, Change 02, dated September 12, 2000, Change 03, dated March 14, 2001, or Revision 04, dated August 11, 2004; as applicable.

(3) The airplane is equipped with an aileron damper with P/N 41012130-103 or 41012130-104 that was installed in production or in accordance with the Accomplishment Instructions of any service bulletin listed in Table 2 of this AD.

Table 2.—Aileron Damper Installation Service Bulletins
EMBRAER service bulletin | Revision level | Date
145-27-0063 | Original | March 30, 2000.
145-27-0063 | Change 01 | October 2, 2000.
145-27-0063 | Change 02 | March 22, 2002.
145-27-0063 | Change 03 | May 27, 2004.
145-27-0063 | Revision 04 | October 13, 2004.
145-27-0063 | Revision 05 | March 16, 2005.

(4) The general visual inspections for structural integrity of the aileron PCA and the aileron damper terminals and fittings at the wing and aileron sides at intervals not exceeding 1,000 flight hours, established in the EMBRAER Model EMB-145 Maintenance Review Board document, are implemented.

Alternative Methods of Compliance (AMOCs)

(o)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) Alternative methods of compliance approved previously in accordance with AD 99-05-04 are approved as alternative methods of compliance with this AD.

Related Information

(p) Brazilian airworthiness directive 1999-02-01R6, dated June 21, 2004, also addresses the subject of this AD.

Incorporation by Reference

(q) You must use the EMBRAER service bulletins identified in Table 3 of this AD, as applicable, to perform the actions that are required by this AD, unless the AD specifies otherwise. If accomplished, you must use the EMBRAER service bulletins identified in Table 4 of this AD, to perform the aileron damper installation provided in paragraph (n)(3) of this AD, unless the AD specifies otherwise.

Table 3.—Required Service Bulletins Incorporated by Reference
Service bulletin | Revision/change level | Date
EMBRAER Alert Service Bulletin 145-27-A054 | Change 01 | February 17, 1999.
EMBRAER Service Bulletin 145-27-0054 | Change 03 | March 30, 2000.
EMBRAER Service Bulletin 145-27-0054 | Change 04 | February 14, 2005.
EMBRAER Service Bulletin 145-27-0061 | Original | October 19, 1999.
EMBRAER Service Bulletin 145-27-0061 | Change 01 | October 29, 1999.
EMBRAER Service Bulletin 145-27-0061 | Change 02 | September 12, 2000.
EMBRAER Service Bulletin 145-27-0061 | Change 03 | March 14, 2001.
EMBRAER Service Bulletin 145-27-0061 | Revision 04 | August 11, 2004.
EMBRAER Service Bulletin 145-27-0062 | Change 02 | September 12, 2000.
EMBRAER Service Bulletin 145-27-0062 | Revision 03 | December 11, 2002.
EMBRAER Service Bulletin 145-27-0062 | Revision 04 | March 8, 2004.
EMBRAER Service Bulletin 145-57-0019 | Change 01 | March 30, 2000.
EMBRAER Service Bulletin 145-57-0019 | Change 02 | May 3, 2001.
EMBRAER Service Bulletin 145-57-0019 | Change 03 | February 11, 2004.

Table 4.—Aileron Damper Installation Service Bulletins Incorporated by Reference
EMBRAER Service Bulletin | Revision level | Date
145-27-0063 | Original | March 30, 2000.
145-27-0063 | Change 01 | October 2, 2000.
145-27-0063 | Change 02 | March 22, 2002.
145-27-0063 | Change 03 | May 27, 2004.
145-27-0063 | Revision 04 | October 13, 2004.
145-27-0063 | Revision 05 | March 16, 2005.

EMBRAER Service Bulletin 145-57-0019, Change 03, dated February 11, 2004, contains the following effective pages:

Page No. | Change level shown on page | Date shown on page
1-4 | 03 | February 11, 2004.
5-71 | 02 | May 3, 2001.

EMBRAER Service Bulletin 145-27-0063, Change 01, dated October 2, 2000, contains the following effective pages:

Page No. | Change level shown on page | Date shown on page
1-4 | 01 | October 2, 2000.
5-24 | 00 | March 20, 2000.

(1) The Director of the Federal Register approved the incorporation by reference of the documents identified in Table 5 of this AD in accordance with 5 U.S.C. 552(a) and 1 CFR part 51.

Table 5.—New Material Incorporated by Reference
EMBRAER Service Bulletin | Revision/change level | Date
145-27-0054 | Change 03 | March 30, 2000.
145-27-0054 | Change 04 | February 14, 2005.
145-27-0061 | Original | October 19, 1999.
145-27-0061 | Change 01 | October 29, 1999.
145-27-0061 | Change 02 | September 12, 2000.
145-27-0061 | Change 03 | March 14, 2001.
145-27-0061 | Revision 04 | August 11, 2004.
145-27-0062 | Change 02 | September 12, 2000.
145-27-0062 | Revision 03 | December 11, 2002.
145-27-0062 | Revision 04 | March 8, 2004.
145-27-0063 | Original | March 30, 2000.
145-27-0063 | Change 01 | October 2, 2000.
145-27-0063 | Change 02 | March 22, 2002.
145-27-0063 | Change 03 | May 27, 2004.
145-27-0063 | Revision 04 | October 13, 2004.
145-27-0063 | Revision 05 | March 16, 2005.
145-57-0019 | Change 01 | March 30, 2000.
145-57-0019 | Change 02 | May 3, 2001.
145-57-0019 | Change 03 | February 11, 2004.

(2) The Director of the Federal Register approved the incorporation by reference of EMBRAER Alert Service Bulletin 145-27-A054, Change 01, dated February 17, 1999, on March 29, 1999 (64 FR 13892, March 23, 1999).

(3) Contact Empresa Brasileira de Aeronautica S.A. (EMBRAER), P.O. Box 343—CEP 12.225, Sao Jose dos Campos—SP, Brazil, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 15, 2006.
Kalene C. Yanamura,
Acting Manager, Transport Airplane Directorate, Aircraft Certification Service.

FR Doc. E6-15861 Filed 10-3-06; 8:45 am]

BILLING CODE 4910-13-P